DEPARTMENT OF THE TREASURY

Internal Revenue Service

26 CFR Parts 1 and 31

[TD 9278]

RIN 1545-BB31, 1545-AY38, 1545-BC52

Treatment of Services Under Section 482; Allocation of Income and Deductions From Intangibles; Stewardship Expense; Correction

AGENCY: Internal Revenue Service (IRS), Treasury.

ACTION: Correction to final and temporary regulations.

SUMMARY: This document contains corrections to final and temporary regulations (TD 9278) that was published in the Federal Register on Friday, August 4, 2006 (71 FR 44466) regarding the treatment of controlled services transactions under section 482 and the allocation of income from intangibles, in particular with respect to contributions by a controlled party to the value of an intangible owned by another controlled party. This document also contains corrections to final and temporary regulations that modify the regulations under section 861 concerning stewardship expenses to be consistent with the changes made to the regulations under section 482.

DATES: This correction is effective January 1, 2007.

FOR FURTHER INFORMATION CONTACT: Thomas A. Vidano, (202) 435-5265, or Carol B. Tan, (202) 435-5159, for matters relating to section 482, and David F. Bergkuist, (202) 622-3850, for matters relating to stewardship expenses (not toll-free numbers).

SUPPLEMENTARY INFORMATION:

Background

The final and temporary regulations (TD 9278) that are the subject of these corrections is under sections 482 and 861 of the Internal Revenue Code.

Need for Correction

As published, final and temporary regulations (TD 9278) contain errors that may prove to be misleading and are in need of clarification.

Correction of Publication

Accordingly, final and temporary regulations (TD 9278) that were the subject of FR Doc. 06-6497 are corrected as follows:

1. On page 44466, column 1, in the heading, the subject “Treatment of Services Under Section 482; Allocation of Income and Deductions From Intangibles; Stewardship Expense” is corrected to read “Treatment of Services Under Section 482; Allocation of Income and Deductions From Intangibles; and Apportionment of Stewardship Expense”.

2. On page 44470, column 2, in the preamble under the paragraph heading “5. Comparable Profits Method for Services—Temp. Treas. Reg. § 1.482-9T(f)”, fifth line from the top of the column, the language “assets play a greater role in general” is corrected to read “assets play a greater role in generating”.

3. On page 44475, column 3, in the preamble under the paragraph heading “Services Subject to a Qualified Cost Sharing Arrangement—Temp. Treas. Reg. § 1.482-9T(m)(3),” fourth line from the top of the column, the language “two provisions, the rule § 1.482-” is corrected to read “two provisions, the rule in § 1.482-”.

Cynthia Grigsby,
Senior Federal Register Liaison Officer, Legal Processing Division, Associate Chief Counsel (Procedure and Administration).

[FR Doc. E6-21907 Filed 12-21-06; 8:45 am]

BILLING CODE 4830-01-P